DEPARTMENT OF HEALTH AND HUMAN SERVICES

Health Resources and Services Administration

Request for Information: Healthy Start Initiative: Eliminating Disparities in Perinatal Health (Healthy Start)

AGENCY: Health Resources and Services Administration (HRSA), Department of Health and Human Services.

ACTION: Notice of request for information.

SUMMARY: HRSA's Maternal and Child Health Bureau, Division of Healthy Start and Perinatal Services seeks the perspectives of Healthy Start grantees, community members, people with lived experience, health care providers, community health workers, birthing people, parents, and other members of the public to inform future Healthy Start program development.

DATES: Submit comments no later than February 3, 2023.

ADDRESSES: Submit comments by email to MCHBHealthyStart@hrsa.gov (subject line Healthy Start Request for Information [RFI]). Submit comments by mail to Mia Morrison, MPH, Maternal and Child Health Bureau, Health Resources and Services Administration, 5600 Fishers Lane, Room 18N-15, Rockville, MD 20857.

FOR FURTHER INFORMATION CONTACT: Mia Morrison, MPH, Supervisory Public Health Analyst, Maternal and Child Health Bureau, Division of Healthy Start and Perinatal Services, HRSA, 5600 Fisher Lane, 18N15, Rockville, MD 20852. Phone: 301-443-2521. Email: mmorrison@hrsa.gov.

SUPPLEMENTARY INFORMATION: HRSA's Healthy Start Initiative: Eliminating Disparities in Perinatal Health (Healthy Start) program is authorized by 42 U.S.C. 254c-8 (section 330H of the Public Health Service Act). Healthy Start is a community-based program dedicated to reducing disparities in maternal and infant health. HRSA provides Healthy Start grants to communities with infant mortality rates at least 1.5 times the U.S. national average and with high rates of adverse perinatal outcomes (e.g., low birthweight, preterm birth, maternal morbidity, and mortality). Healthy Start programs serve individuals of reproductive age, pregnant and post-partum people, fathers/partners, and infants from birth through 18 months.

HRSA currently funds 101 Healthy Start grantees in 35 states, the District of Columbia and Puerto Rico, to improve health outcomes before, during, and after pregnancy and reduce racial/ethnic differences in rates of infant death and adverse perinatal outcomes by: (1) improving access to quality health care and services for parents, birthing people, infants, children, and families through outreach, care coordination, health education, and linkage to health insurance; (2) strengthening the health workforce, specifically those individuals responsible for providing direct services; and (3) building healthy communities and ensuring ongoing, coordinated comprehensive services are provided in the most efficient manner through effective service delivery.

In addition, HRSA funds the Supporting Healthy Start Performance Project to provide grantees with technical assistance and training in order to achieve the goals of the Healthy Start program. Through Healthy Start investments, HRSA has also expanded access to doula care and invested in communities to improve infant health equity by developing data-driven systems level strategies addressing social and structural determinants of health. More information about the portfolio of Healthy Start programs is available online at: https://mchb.hrsa.gov/about-us/divisions/division-healthy-start-perinatal-services-dhsps#:~:text=Our%20division%3A,between%20racial%20and%20ethnic%20groups.

Unacceptably high rates of infant and maternal mortality persist in communities across the country, with notable inequities by race and ethnicity. HRSA seeks to accelerate the elimination of inequities in birth outcomes in communities served by Healthy Start.

Responses: HRSA is seeking input from the public on the following topics related to the design, implementation, and evaluation of the Healthy Start program. A response to each question is not required. All partners and interested parties are welcome and encouraged to respond (e.g., Healthy Start grantees, community members, people with lived experience, health care professionals, etc.)

Program Design and Implementation

(1) Provide input on the types and mix of services (direct ¹, enabling ² or public health services and systems ³) and program activities (including strategies that address social and structural determinants of health) that could accelerate Healthy Start's impact on decreasing racial/ethnic disparities in maternal and infant mortality and morbidity. In your response, include examples of innovative services or strategies that a Healthy Start grantee could elect to implement and how the effectiveness of these interventions could be measured.

¹ Direct Services—Direct services are preventive, primary, or specialty clinical services to pregnant women, infants, and children where funds are used to reimburse or fund providers for these services through a formal process similar to paying a medical billing claim or managed care contracts.

² Enabling Services—Enabling services are non-clinical services (i.e., not included as direct or public health services) that enable individuals to access health care and improve health outcomes. Enabling services include, but are not limited to case management, care coordination, referrals, translation/interpretation, transportation, eligibility assistance, health education for individuals or families, environmental health risk reduction, health literacy, and outreach.

³ Public Health Services and Systems—Public health services and systems are activities and infrastructure to carry out the core public health functions of assessment, assurance, and policy development, and the 10 essential public health services. Examples include the development of standards and guidelines, needs assessment, program planning, implementation, and evaluation, policy development, quality assurance and improvement, workforce development, and population-based disease prevention and health promotion campaigns for services such as newborn screening, immunization, injury prevention, safe-sleep education and anti-smoking.

(2) Propose criteria and/or methods for defining applicant project area and target population ⁴ in order to ensure that Healthy Start programs are serving populations and communities with the highest rates of infant and maternal mortality and morbidity, including communities with the highest racial/ethnic disparities. If applicable to your response, propose criteria for reviewing Healthy Start grant applications with overlapping geographic areas.

⁴ Definition of project area and target population from the fiscal year (FY) 2019 Healthy Start Initiative Notice of Funding Opportunity (HRSA-19-049): A project area must represent a reasonable and logical catchment area, but the defined areas do not have to be contiguous. The target population is the population that you will serve within your geographic project area.

(3) Provide recommendations on implementing Healthy Start programs with rural populations and underserved populations experiencing disproportionate adverse maternal and infant health outcomes (e.g., American Indian/Alaskan Native). In your response, describe whether potential Healthy Start applicants would benefit from the ability to apply for tiered funding (i.e., flexibility to serve fewer participants for programs with small numbers of residents within their catchment area).

(4) Provide recommendations on the most effective period to enroll Healthy Start participants (i.e., pre-conception, prenatal, postpartum) and how long services should be offered to have the greatest impact on improving maternal and infant health outcomes.

(5) Provide input on the engagement of fathers in Healthy Start programs and recommendations for types of activities and programming. When possible, provide examples of successful community-based fatherhood initiatives (non-Healthy Start examples are welcome).

(6) Provide recommendations for increasing retention of community health workers in Healthy Start programs.

(7) Provide recommendations on culturally responsive approaches for providing Black, American Indian, Alaskan Native, and border populations with maternal and child health education, support navigating resources, and linkages to clinical services including doula, prenatal, well-woman, and pediatric care.

(8) Provide recommendations for strengthening engagement of birthing people, fathers, families, and people with lived experience in Healthy Start program design, implementation, and evaluation.

Data and Evaluation of Healthy Start Programs

(9) Provide recommendations on the relevance of the current Healthy Start measures pertaining to the key challenges and inequities experienced in your community and priority population: (a) Which current measures are useful for evaluating program impact and why? (b) Which current measures are not useful for evaluating program impact and why? (c) Are there additional/new measures that would support Healthy Start program evaluation (if applicable provide examples and a rationale)? (For a list of current Healthy Start measures, see page 20 of the Healthy Start Initiative: Eliminating Disparities in Perinatal Health Notice of Funding Opportunity at https://grants.hrsa.gov/2010/Web2External/Interface/Common/EHBDisplayAttachment.aspx?dm_rtc=16&dm_attid=d3c378a4-b07d-48e5-ab36-38f05a7eeb48).

(10) HRSA currently provides an optional Healthy Start database to grantees (i.e., CAREWare) https://healthystartepic.org/healthy-start-implementation/careware-for-healthy-start/) free of charge. Provide input on the essential and preferred components of an ideal Healthy Start data system. Would there be an advantage to having one system that all grantees are required to use? Would there be any disadvantages?

Respondents may also provide additional comments or recommendations that are not specifically linked to the questions above. All responses may, but are not required to, identify the individual's name, address, email, telephone number, professional or organizational affiliation, background, or area of expertise (e.g., program participant, family member, clinician, community health worker, researcher, Healthy Start Director, etc.), and topic/subject matter. Information obtained as a result of this RFI may be used by HRSA on a non-attribution basis for program planning. Comments in response to this RFI may be made publicly available, so respondents should bear this in mind when making comments. HRSA will not respond to any individual comments.

Special Note to Commenters

Whenever possible, respondents are asked to draw their responses from lived experience and/or objective, empirical, and actionable evidence and to cite this evidence within their responses. This RFI is issued solely for information and planning purposes; it does not constitute a Request for Proposal, applications, proposal abstracts, or quotations. This RFI does not commit the government to contract for any supplies or services or make a grant or cooperative agreement award. Further, HRSA is not seeking proposals through this RFI and will not accept unsolicited proposals. HRSA will not respond to questions about the policy issues raised in this RFI. Responders are advised that the U.S. government will not pay for any information or administrative costs incurred in response to this RFI; all costs associated with responding to this RFI will be solely at the interested party's expense. Not responding to this RFI does not preclude participation in any future procurement or program, if conducted.

Diana Espinosa,
Deputy Administrator.

[FR Doc. 2022-28559 Filed 1-3-23; 8:45 am]

BILLING CODE 4165-15-P